DEPARTMENT OF HEALTH AND HUMAN SERVICES

Centers for Disease Control and Prevention

Childhood Immunization Support Project; Notice of Availability of Funds

Announcement Type: New.

Funding Opportunity Number: 04127.

Catalog of Federal Domestic Assistance Number: 93.268.

Key Dates:

Letter of Intent Deadline: May 26, 2004.

Application Deadline: June 25, 2004.

I. Funding Opportunity Description

Authority: Public Health Service Act, Section 317(k)(1), 42 U.S.C. 247b(k)(1), as amended.

Purpose: The purpose of the program is to improve pediatric provider elements necessary for high quality immunization delivery. This program addresses the “Healthy People 2010” focus area of Immunization.

Measurable outcomes of the program will be in alignment with the following performance goals for the National Immunization Program (NIP):

• Ensure that two-year-olds are appropriately vaccinated.

• Reduce the number of indigenous cases of vaccine-preventable diseases (VPDs).

Activities: Awardee activities for this program are as follows: Initiate, conduct, assess and evaluate national and regional activities and interventions to ensure the adoption of the immunization policies and practices in pediatric offices outlined in the “Standards for Childhood and Adolescent Immunization Practices” recommended by the National Vaccine Advisory Committee in February 2002 and endorsed by the American Academy of Pediatrics. These activities include:

1. Quality improvement projects aimed at ensuring pediatricians assess immunization needs of children at all appropriate encounters.

2. Assess the capacity, knowledge and attitudes of pediatricians regarding the immunization schedule and immunization best practices.

3. Implement Regional and Local Chapter applications to increase immunization levels and knowledge among pediatricians.

4. Coordinate, convene and initiate programs and policies leading to implementation of best practices in pediatrician offices.

5. Disseminate best practices and findings of the interventions to the pediatric community.

In a cooperative agreement, CDC staff is substantially involved in the program activities, above and beyond routine grant monitoring.

CDC Activities for this program are as follows:

1. Provide medical, epidemiological, programmatic and educational consultation and technical assistance.

2. Provide national, regional or local data available that will assist in the targeting or evaluation of various initiatives carried out through this project.

3. Assist in coordinating efforts with state and large city immunization programs and other CDC NIP partners.

4. Provide educational and communications materials to support interventions.

II. Award Information

Type of Award: Cooperative agreement. CDC involvement in this program is listed in the Activities Section above.

Fiscal Year Funds: 2004.

Approximate Total Funding: $200,000.

Approximate Number of Awards: One.

Approximate Average Award: $200,000. (This amount is for the first 12-month budget period, and includes both direct and indirect costs.)

Floor of Award Range: None.

Ceiling of Award Range: $200,000. (This ceiling is for the first budget period.)

Anticipated Award Date: September 1, 2004.

Budget Period Length: 12 months.

Project Period Length: Five years. Throughout the project period, CDC's commitment to continuation of awards will be conditioned on the availability of funds, evidence of satisfactory progress by the recipient (as documented in required reports), and the determination that continued funding is in the best interest of the Federal government.

III. Eligibility Information

III.1 Eligible Applicants

Applications may be submitted by public and private nonprofit organizations.

III.2. Cost Sharing or Matching

Matching funds are not required for this program.

III.3. Other

If you request a funding amount greater than the ceiling of the award range, your application will be considered non-responsive, and will not be entered into the review process. You will be notified that your application did not meet the submission requirements.

The organization must represent physicians whose membership vaccinate 50 percent or more of children in the United States. The organization must have regional representation throughout the United States to facilitate grass-roots interventions in health care settings. The organization must be able to document a reliance of members on the organization for technical information and assistance on immunization-related issues. The information may be provided through the organization's annual report as well as membership surveys.

Note: Title 2 of the United States Code section 1611 states that an organization described in section 501(c)(4) of the Internal Revenue Code that engages in lobbying activities is not eligible to receive Federal funds constituting an award, grant, or loan.

IV. Application and Submission Information

IV.1. Address to Request Application Package

To apply for this funding opportunity use application form Public Health Service Form 5161-1 (OMB Number 0937-0189). Application forms and instructions are available on the CDC Web site, at the following Internet address: http://www.cdc.gov/od/pgo/forminfo.htm. If you do not have access to the Internet, or if you have difficulty accessing the forms on-line, you may contact the CDC Procurement and Grants Office Technical Information Management Section (PGO-TIM) staff at: 770-488-2700. Application forms can be mailed to you.

IV.2 Content and Form of Submission

Letter of Intent (LOI): Your LOI must be written in the following format:

• Maximum number of pages: Two.

• Font size: 12-point unreduced.

• Double spaced.

• Paper size: 8.5 by 11 inches.

• Page margin size: One inch.

• Printed only on one side of page.

• Written in plain language, avoid jargon.

Your LOI must contain the following information:

• The name of the organization.

• The primary contact person's name, mailing address, phone number, fax number and e-mail address (if available).

• The mission/activities of the organization.

• The organization membership information, including number of members and professional affiliation of members.

Application: You must submit a project narrative with your application forms. The narrative must be submitted in the following format:

• Maximum number of pages: 20—If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

Your narrative should address activities to be conducted over the entire project period, and must include the following items in the order listed:

• Understanding program objectives, operational plan, coordination with state and local health departments, evaluation plan, staffing and budget. The budget justification will not be counted as part of the stated page limit.

Additional information may be included in the application appendices. The appendices will not be counted toward the narrative page limit. This additional information includes:

• Curriculum vitaes, resumes, organizational charts.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: May 26, 2004.

CDC requests that you send a LOI if you intend to apply for this program. Although the LOI is not required, not binding, and does not enter into the review of your subsequent application, the LOI will be used to gauge the level of interest in this program, and to allow CDC to plan the application review.

Application Deadline Date: June 25, 2004.

Explanation of Deadlines: Applications must be received in the CDC Procurement and Grants Office by 4 p.m. eastern time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Your application is subject to Intergovernmental Review of Federal Programs, as governed by Executive Order (EO) 12372. This order sets up a system for state and local governmental review of proposed Federal assistance applications. You should contact your state single point of contact (SPOC) as early as possible to alert the SPOC to prospective applications, and to receive instructions on your state's process. Click on the following link to get the current SPOC list: http://www.whitehouse.gov/omb/grants/spoc.html.

IV.5. Funding restrictions

Restrictions, which must be taken into account while writing your budget, are as follows:

• Construction, renovations, purchase or lease of passenger vehicles or vans, or supplementing any applicant expenditures are not allowed.

• Awards will not allow reimbursement of pre-award costs.

If you are requesting indirect costs in your budget, you must include a copy of your indirect cost rate agreement. If your indirect cost rate is a provisional rate, the agreement should be less than 12 months of age.

Guidance for completing your budget can be found on the CDC web site, at the following Internet address: http://www.cdc.gov/od/pgo/funding/budgetguide.htm.

IV.6. Other Submission Requirements

LOI Submission Address: Submit your LOI by express mail, delivery service, fax, or e-mail to: Valerie Morelli, Centers for Disease Control and Prevention, National Immunization Program, 1600 Clifton Road, NE., MS E-52, Atlanta, GA 30333; (404)639-8091 (phone), (404)639-8828 (fax), vmorelli@cdc.gov.

Application Submission Address: Submit the original and two hard copies of your application by mail or express delivery service to: Technical Information Management-PA# 04127, CDC Procurement and Grants Office, 2920 Brandywine Road, Atlanta, GA 30341.

Applications may not be submitted electronically at this time.

V. Application Review Information

V.1 Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation. Your application will be evaluated against the following criteria:

1. Program Plan (30 points): Does the applicant address strategies specific to the “Standards of Childhood and Adolescent Immunization Practices” and the needs of pediatric health care providers? Is the action plan to improve pediatric health care provider knowledge of and implementation of sound immunization practices feasible and appropriate?

2. Capability (25 points): Is the applicant likely to succeed in implementing proposed activities as measured by past relevant experience, a sound management structure, and staff qualifications, which include the appropriateness of their proposed roles and responsibilities and job descriptions?

3. Evaluation Plan (20 points): Does the proposed plan include impact and process evaluation as well as quantitative and qualitative measures for achievement of program objectives? Does the plan call for monitoring of proposed activities?

4. Background and Need (15 points): Does the applicant understand the issues related to immunization delivery needs?

5. Coordination and Collaboration (10 points): Will the applicant coordinate activities with affiliate and chapter organizations, state and local immunization programs, provider organizations, and other appropriate agencies?

6. Budget and Justification (Not Scored): Is the proposed budget adequately justified, reasonable, and consistent with the proposed project activities and this program announcement?

V.2. Review and Selection Process

Applications will be reviewed for completeness by the Procurement and Grants Office (PGO) staff, and for responsiveness by NIP. Incomplete applications and applications that are non-responsive to the eligibility criteria will not advance through the review process. Applicants will be notified that their application did not meet submission requirements.

An objective review panel will evaluate complete and responsive applications according to the criteria listed in the “V.1. Criteria” section above.

V.3. Anticipated Announcement and Award Dates

Award Date: September 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR parts 74 and 92.

For more information on the Code of Federal Regulations, see the National Archives and Records Administration at the following Internet address: http://www.access.gpo.gov/nara/cfr/cfr-table-search.html.

The following additional requirements apply to this project:

• AR-7 Executive Order 12372;

• AR-8 Public Health System Reporting Requirements;

• AR-10 Smoke-Free Workplace Requirements;

• AR-11 Healthy People 2010;

• AR-12 Lobbying Restrictions;

• AR-14 Accounting System Requirements;

• AR-15 Proof of Non-Profit Status;

• AR-20 Conference Support;

• AR-24 Health Insurance Portability and Accountability Act Requirements.

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness

2. Financial status report and annual progress report, no more than 90 days after the end of the budget period.

3. Final financial and performance reports, no more than 90 days after the end of the project period.

These reports must be sent to the Grants Management Specialist listed in the “Agency Contacts” section of this announcement.

VII. Agency Contacts

For general questions about this announcement, contact: Technical Information Management Section, CDC Procurement and Grants Office, 2920 Brandywine Road, Atlanta, GA 30341; telephone: 770-488-2700.

For program technical assistance, contact: Valerie Morelli, Project Officer, CDC National Immunization Program, 1600 Clifton Road, MS E-52, Atlanta, GA 30333; telephone: (404) 639-8091, e-mail: vmorelli@cdc.gov.

For budget assistance, contact: Jesse Robertson, Grants Management Specialist, CDC Procurement and Grants Office, 2920 Brandywine Road, Atlanta, GA 30341; telephone: (770)488-2747, e-mail: jtr4@cdc.gov.

VIII. Other Information

Copies of the “Standards for Childhood and Adolescent Immunization Practices” may be obtained from the National Immunization Program, Immunization Services Division, Education, Information, and Partnership Branch, 1600 Clifton Road, MS E-52, Atlanta, GA 30333. Telephone (404) 639-8225, or from the NIP Web site, http://www.cdc.gov/nip.

Dated: April 20, 2004.
William P. Nichols,
Acting Director, Procurement and Grants Office, Centers for Disease Control and Prevention.

[FR Doc. 04-9370 Filed 4-23-04; 8:45 am]

BILLING CODE 4163-18-P